SMALL BUSINESS ADMINISTRATION

[Declaration of Disaster #3499]

State of Oklahoma; Amendment #3

In accordance with a notice received from the Department of Homeland Security—Federal Emergency Management Agency, effective June 3, 2003, the above numbered declaration is hereby amended to include Cherokee, Creek, Garvin, Nowata, Okmulgee and Seminole Counties in the State of Oklahoma as disaster areas due to damages caused by severe storms and tornadoes occurring on May 8, 2003 and continuing through May 30, 2003.

In addition, applications for economic injury loans from small businesses located in the contiguous counties of Adair, Carter, Craig, Delaware, Hughes, Mayes, McIntosh, Murray, Muskogee, Pawnee, Rogers, Sequoyah, Tulsa, Wagoner and Washington in the State of Oklahoma; and Labette and Montgomery in the State of Kansas may be filed until the specified date at the previously designated location. All other counties contiguous to the above named primary counties have been previously declared.

All other information remains the same, i.e., the deadline for filing applications for physical damage is July 9, 2003, and for economic injury the deadline is February 10, 2004.

(Catalog of Federal Domestic Assistance Program Nos. 59002 and 59008).
Dated: June 5, 2003.
Herbert L. Mitchell,
Associate Administrator for Disaster Assistance.

[FR Doc. 03-15236 Filed 6-16-03; 8:45 am]

BILLING CODE 8025-01-P